ENVIRONMENTAL PROTECTION AGENCY

[EPA-HQ-OPPT-2007-0162; FRL-8118-6]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from December 18, 2006 to February 2, 2007, consists of the PMNs and TMEs, both pending or expired, and the notices of commencement to manufacture a new chemical that the Agency has received under TSCA section 5 during this time period.

DATES: Comments identified by the specific PMN number or TME number, must be received on or before April 9, 2007.

ADDRESSES: Submit your comments, identified by docket identification (ID) number EPA-HQ-OPPT-2007-0162, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2007-0162. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2007-0162. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov Web site is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket's index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC PublicReading Room hours of operation are 8:30 a.m. to 4:30 p.m., Monday through Friday, excluding Federal holidays. The telephone numberof the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from December 18, 2006 to February 2, 2007, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 100 Premanufacture Notices Received From: 12/18/06 to 02/02/07
Case No. | Received Date | Projected Notice End Date | Manufacturer/Importer | Use | Chemical
P-07-0128 | 12/11/06 | 03/10/07 | Degussa Corporation | (S) Coil coatings | (G) Polymer of aromatic/cycloaliphatic/aliphatic polycarboxylic acid and aliphatic polyol
P-07-0129 | 12/11/06 | 03/10/07 | Degussa Corporation | (S) Extrusion of tubing systems; injection molding of special applications | (G) Alkanedicarboxylic acid, polymer with alkanediamine and poly(oxyalkylene)diamine
P-07-0130 | 12/14/06 | 03/13/07 | Inolex Chemical Company | (S) Lubricant additive for metal working fluids | (S) Hexanedioic acid, polymer with 2,2′-(methylimino)bis[ethanol] and 1,2,3-propanetriol, isooctadecanoate (ester)
P-07-0131 | 12/14/06 | 03/13/07 | CBI | (G) Contained use in energy production | (G) Polyether polyol polyester polyurethane
P-07-0132 | 12/18/06 | 03/17/07 | CBI | (G) Multipurpose adhesive, open non dispersive use | (G) Polyurethane prepolymer; polyurethane hot melt adhesive
P-07-0133 | 12/18/06 | 03/17/07 | DIC International(USA), LLC. | (G) Toner | (G) Polymer with carboxylic acid ester
P-07-0134 | 12/18/06 | 03/17/07 | DIC International(USA), LLC. | (G) Coating ingredient | (G) Isocyanate compound with polyurethane polyol (provisional)
P-07-0135 | 12/18/06 | 03/17/07 | DIC International(USA), LLC. | (G) Toner | (G) Polymer with carboxylic acid ester
P-07-0136 | 12/18/06 | 03/17/07 | DIC International(USA), LLC. | (G) Toner | (G) Polymer with carboxylic acid ester
P-07-0137 | 12/18/06 | 03/17/07 | DIC International (USA) LLC | (G) Toner | (G) Polymer with carboxylic acid ester
P-07-0138 | 12/18/06 | 03/17/07 | CBI | (G) Adhesion promoter | (G) Maleic anhydride and acrylics modified polyolefin
P-07-0139 | 12/20/06 | 03/19/07 | CBI | (S) Ingredient in fragrance compound | (G) Ether alkanol
P-07-0140 | 12/18/06 | 03/17/07 | CBI | (G) Colorant raw material | (G) Quino[2,3-b]acridine-7,14-dione, 5,12-dihydro-ar-[4-[[2-(sulfooxy)ethyl]substituted]phenyl]-, monosodium salt
P-07-0141 | 12/21/06 | 03/20/07 | CBI | (G) Component in an adhesive formulation for general industrial bonding | (G) Succinoyl phenylhydrazide
P-07-0142 | 12/21/06 | 03/20/07 | CBI | (G) Curing agent for two-part coating | (G) Amine modified phenol formaldehyde polymer
P-07-0143 | 12/22/06 | 03/21/07 | CBI | (G) Lubricant additive | (G) Alkanoldioic acid, dialkyl ester
P-07-0144 | 12/22/06 | 03/21/07 | CBI | (G) Lubricant additive | (G) Alkanoldioic acid, dialkyl ester
P-07-0145 | 12/22/06 | 03/21/07 | CBI | (G) Lubricant additive | (G) Alkanoldioic acid, dialkyl ester
P-07-0146 | 12/22/06 | 03/21/07 | CBI | (G) Lubricant additive | (G) Alkanoldioic acid, dialkyl ester
P-07-0147 | 12/22/06 | 03/21/07 | CBI | (G) Lubricant additive | (G) Alkanoldioic acid, dialkyl ester
P-07-0148 | 12/22/06 | 03/21/07 | CBI | (G) Lubricant additive | (G) Alkanoldioic acid, dialkyl ester
P-07-0149 | 12/26/06 | 03/25/07 | CBI | (S) Modified resin used as a component in a protective coating | (S) 1,4-cyclohexanedicarboxylic acid, polymer with 1,4-cyclohexanedimethanol and 2,5-furandione, reaction products with glycidyl neodecanoate and polyethylene-polypropylene glycol 2-aminopropyl me ether
P-07-0150 | 12/26/06 | 03/25/07 | CBI | (S) Binder for wood floor lacquers | (G) Dimer fatty acid based polyester polyurethane
P-07-0151 | 12/27/06 | 03/26/07 | 3M Company | (G) Monomer | (G) Arylacrylate
P-07-0152 | 12/28/06 | 03/27/07 | Spin Master Ltd | (G) Dye for colored solutions | (G) Alkyl-nitrophenol
P-07-0153 | 12/28/06 | 03/27/07 | Spin Master Ltd | (G) Dye for colored solutions | (G) 3,3-bis(4-hydroxy-alkoxyphenyl)-1-(3h)-isobenzofuranone
P-07-0154 | 12/28/06 | 03/27/07 | CBI | (S) Additive in automotive coatings | (G) Carbamated diol
P-07-0155 | 12/28/06 | 03/27/07 | CBI | (S) Additive in automotive coatings | (G) Carbamated diol
P-07-0156 | 12/28/06 | 03/27/07 | CBI | (S) Intermediate for a textile finish | (G) Aminomercapto siloxane
P-07-0157 | 01/03/07 | 04/02/07 | CBI | (G) Component in the manufacture of paper | (G) Vinylamine copolymer
P-07-0159 | 01/05/07 | 04/04/07 | Shin-etsu Silicones of America, Inc. | (S) Ingredient for glass and/or plastic lens coating agents | (G) Perfluoropolyether compound
P-07-0160 | 01/05/07 | 04/04/07 | CBI | (G) Processing aid | (G) Organosilane derivative
P-07-0161 | 01/08/07 | 04/07/07 | CBI | (G) Hardener for expoxy resin | (G) Alkene substituted bis phenol
P-07-0162 | 01/08/07 | 04/07/07 | Siltech LLC | (G) A foam additive in concentration less than 10% | (S) Siloxanes and silicones, di-me, me 3,3,4,4,5,5,6,6,6-nonafluorohexyl
P-07-0163 | 01/09/07 | 04/08/07 | CBI | (G) Resin | (G) Fatty acids, C18-unsaturated, dimers, polymers with bisphenol a, polyalkylene glycol diglycidyl ether and alkylene oxide
P-07-0164 | 01/08/07 | 04/07/07 | Huntsman International, LLC | (S) Continuous dyeing of cotton fabric | (G) Substituted phenyl amino substituted triazine reaction product with naphthalenesulfonic acid azo substituted phenyl substituted naphthalenesulfonic acid amino compound
P-07-0165 | 01/09/07 | 04/08/07 | CBI | (G) Resin | (G) Methyl methacrylate, acrylate copolymer
P-07-0166 | 01/10/07 | 04/09/07 | Cytec Surface Specialties Inc. | (G) Coatings resin | (G) Polester acrylate resin
P-07-0167 | 01/10/07 | 04/09/07 | Cytec Industries Inc. | (S) Resin for paints and coatings | (G) Substituted carbomonocycles, polymer with substituted glycols and alkyldioic acid
P-07-0168 | 01/10/07 | 04/09/07 | Cytec Industries Inc. | (S) Ultra violet/eb resin for barrier coatings | (G) Heterocyclic homopolymer, polycyclic substituted ester
P-07-0169 | 01/11/07 | 04/10/07 | Huntsman Corporation | (S) Intermediate for adhesives | (G) Isocyanate-functional polyurethane
P-07-0170 | 01/12/07 | 04/11/07 | CBI | (G) Radiation-curable wood, paper and metal coatings, such as wood varnishes, overprint varnishes for paper, and metal coatings. | (G) Polyester polyurethane acrylate oligomer
P-07-0171 | 01/12/07 | 04/11/07 | CBI | (S) Dispersing agent for crop protection; dispersing agent for home care cleaners | (G) Polyoxyalkylene siloxane
P-07-0172 | 01/12/07 | 04/11/07 | CBI | (S) Dispersing agent for crop protection; dispersing agent for home care cleaners | (G) Polyoxyalkylene siloxane
P-07-0173 | 01/12/07 | 04/11/07 | CBI | (S) Dispersing agent for crop protection; dispersing agent for home care cleaners | (G) Polyoxyalkylene siloxane
P-07-0174 | 01/12/07 | 04/11/07 | CBI | (G) Intermediate (cross-linking agent, chain extender in polymers) in the chemical and polymer industry | (S) Oxazole, 2,2′-(1,3-phenylene)bis(4,5-dihydro-
P-07-0175 | 01/12/07 | 04/11/07 | Ticona | (S) Fibers | (G) Polyester copolymer based on dmt and alkylene diols
P-07-0176 | 01/16/07 | 04/15/07 | CBI | (S) (1) Binder for inks, paints and clear coats; (2) Resin modifier or co-resin for coatings systems | (G) Oil/phenolic modified resin
P-07-0177 | 01/17/07 | 04/16/07 | Clayton Corp. | (S) Polyurethane foam sealant | (G) Mdi based prepolymer
P-07-0178 | 01/17/07 | 04/16/07 | Clayton Corp. | (S) Polyurethane foam sealant | (G) Mdi based prepolymer
P-07-0179 | 01/16/07 | 04/15/07 | CBI | (G) Polyurethane foam sealant | (G) Sma ester
P-07-0180 | 01/16/07 | 04/15/07 | CBI | (G) Pigment dispersant | (G) Sma ester
P-07-0181 | 01/16/07 | 04/15/07 | CBI | (G) Pigment disperant | (G) Sma ester
P-07-0182 | 01/16/07 | 04/15/07 | CBI | (G) Pigment disperant | (G) Sma ester
P-07-0183 | 01/16/07 | 04/15/07 | CBI | (G) Pigment dispersant | (G) Sma ester
P-07-0184 | 01/16/07 | 04/15/07 | CBI | (G) Pigment dispersant | (G) Sma ester ammonium salt solution
P-07-0185 | 01/16/07 | 04/15/07 | CBI | (G) Pigment dispersant | (G) Sma ester ammonium salt solution
P-07-0186 | 01/16/07 | 04/15/07 | CBI | (G) Pigment dispersant | (G) Sma ester ammonium salt solution
P-07-0187 | 01/16/07 | 04/15/07 | CBI | (G) Pigment dispersant | (G) Sma ester ammonium salt solution
P-07-0188 | 01/16/07 | 04/15/07 | CBI | (G) Pigment dispersant | (G) Sma ester ammonium salt solution
P-07-0189 | 01/16/07 | 04/15/07 | CBI | (G) Resin | (G) Fatty acids, C18-unsaturated, dimers, polymers with hydroxyalkylsubstituted bisphenol a, 2-ethylhexanoic acid, polyalkylene glycol ether with bisphenol a (2:1), and polylakylenepolyphenylne isocyanate, reaction products with 2-(alkylamino)ethanol
P-07-0190 | 01/16/07 | 04/15/07 | CBI | (G) Resin | (G) Methyl methacrylate, acrylate copolymer
P-07-0191 | 01/16/07 | 04/15/07 | CBI | (G) Resin | (G) Propanoic acid, 2-hydroxy-, ion(1-), salts with hydroxyalkylbisphenol a polymer benzoate 2-ethylhexanoate-2-(dimethylamino)ethanol reaction products
P-07-0192 | 01/17/07 | 04/16/07 | CBI | (G) Pigment dispersive | (G) Polyethyleneimine polyester copolymer
P-07-0193 | 01/19/07 | 04/18/07 | Cytec Industries Inc. | (S) Phenolic resin coating | (G) Formaldehyde, polymer with substituted carbomonocycles, alkyl ether
P-07-0194 | 01/18/07 | 04/17/07 | CBI | (G) Colorant for cleaning products | (G) Polyalkoxylated aromatic colorant
P-07-0195 | 01/18/07 | 04/17/07 | CBI | (G) Colorant for cleaning products | (G) Polyalkoxylated aromatic colorant
P-07-0196 | 01/18/07 | 04/17/07 | CBI | (G) Colorant for cleaning products | (G) Polyalkoxylated aromatic colorant
P-07-0197 | 01/18/07 | 04/17/07 | CBI | (G) Colorant for cleaning products | (G) Polyalkoxylated aromatic colorant
P-07-0198 | 01/22/07 | 04/21/07 | 3M Company | (G) Film coating additive | (G) Surface modified ceramic particles
P-07-0199 | 01/22/07 | 04/21/07 | Cytec Industries Inc. | (S) Acrylic resin coating for industrial paints | (G) Alkenoic acid alkyl esters, polymer with substituted carbomonocycle, substituted epoxy alkyl ester compound with substituted amine
P-07-0200 | 01/22/07 | 04/21/07 | Cognis Corporation | (S) Fabric softener/antistat agent in wet fabric cloths for dryer. | (S) Ethanaminium, 2-hydroxy-N,N-bis (2-hydroxyethyl)-N-methyl-, esters with C12-20 fatty acids, me sulfates (salts)
P-07-0201 | 01/23/07 | 04/22/07 | Heraeus Metal Processing Inc. | (S) Platinum catalyst precursor | (S) Platinum(2+), tetraammine-, (sp-4-1)-, dinitrate
P-07-0202 | 01/24/07 | 04/23/07 | 3M Company | (G) Chemical intermediate | (G) Fluorinated alcohol
P-07-0203 | 01/24/07 | 04/23/07 | 3M Company | (G) Chemical intermediate | (G) Fluorinated alkenyl ether
P-07-0204 | 01/24/07 | 04/23/07 | 3M Company | (G) Heat transfer fluid | (G) Hydrofluoroether
P-07-0205 | 01/25/07 | 04/24/07 | CBI | (G) Oilfield additive | (G) Branched alkylamide, n-ethylhexyl
P-07-0206 | 01/26/07 | 04/25/07 | CBI | (G) Component of foam | (G) Polymer with aliphatic diol and aromatic diacid
P-07-0207 | 01/25/07 | 04/24/07 | CBI | (G) Peroxide indicator | (G) Alkylamino-substituted phenothiazine hydrochloride
P-07-0208 | 01/26/07 | 04/25/07 | CBI | (G) Coating | (G) Acrylic acid polymer with vinylphosphonic acid, maleic anhydride and ethylene glycol acrylate
P-07-0209 | 01/30/07 | 04/29/07 | Eastman Chemical Company | (S) Plasticizer | (S) 1,3-propanediol, 2-[(benzoyloxy)methyl]-2-ethyl-, dibenzoate
P-07-0210 | 01/31/07 | 04/30/07 | CBI | (G) Intermediate | (G) Toluene acid haloalkyl sulfo derivative
P-07-0211 | 01/31/07 | 04/30/07 | CBI | (G) Intermediate | (G) Toluene halo alkyl sulfo derivative
P-07-0212 | 01/31/07 | 04/30/07 | CBI | (G) Intermediate | (G) Toluene halo alkyl sulfo derivative
P-07-0213 | 01/31/07 | 04/30/07 | CBI | (G) Intermediate | (G) Toluene halo alkyl sulfo derivative
P-07-0214 | 01/31/07 | 04/30/07 | CBI | (G) Intermediate | (G) Toluene halo alkyl sulfo derivative
P-07-0215 | 01/31/07 | 04/30/07 | CBI | (G) Lubricant additive | (G) Modified benzenecarboxylate
P-07-0216 | 02/01/07 | 05/01/07 | Huntsman International, LLC | (S) Dyeing of cotton fabric | (G) Substituted phenyl amino alkyl sulfonyl reaction product with substituted naphthalenesulfonic acid amino compound
P-07-0217 | 01/31/07 | 04/30/07 | CBI | (G) Intermediate | (G) Toluene halo alkyl sulfo derivative
P-07-0218 | 01/31/07 | 04/30/07 | Givaudan Fragrances Corporation | (S) Component of fragrances used for household applications, etc.; | (S) 3-cyclooctene-1-methanol, .alpha.-ethyl-
P-07-0219 | 01/31/07 | 04/30/07 | Croda Inc. | (S) Solubilizer for semi-polar compounds into non-polar fluids.; glossing agent for inanimate surfaces (wood, metal, plastic, rubber, et al.); shine enhancer for pet shampoo | (G) Ppg-3 benzyl ether myristate
P-07-0220 | 02/02/07 | 05/02/07 | CBI | (G) Open non dispersive (binder) | (G) Aliphatic polyester- polyether polyurethane resin
P-07-0221 | 02/06/07 | 05/06/07 | CBI | (G) Chelating agent for petroleum recovery | (G) Aminocarboxylic acid chelating agent
P-07-0222 | 02/06/07 | 05/06/07 | CBI | (G) Chelating agent for petroleum recovery | (G) Aminocarboxylic acid chelating agent
P-07-0223 | 02/06/07 | 05/06/07 | CBI | (G) Chelating agent for petroleum recovery | (G) Aminocarboxylic acid chelating agent
P-07-0224 | 02/06/07 | 05/06/07 | CBI | (G) Chelating agent for petroleum recovery | (G) Aminocarboxylic acid chelating agent
P-07-0225 | 02/06/07 | 05/06/07 | CBI | (G) Chelating agent for petroleum recovery | (G) Aminocarboxylic acid chelating agent
P-07-0226 | 02/08/07 | 05/08/07 | The Dow Chemical Company | (G) Dispersion polymer for wood coatings | (G) Mono-me ether blocked methylenediphenyl diisocyanate polyurethane polymer with polyoxypropylene diamine
P-07-0227 | 02/08/07 | 05/08/07 | CBI | (G) Additive, open, non-dispersive use | (G) Polyethyleneglcol diacrylate, modified
P-07-0228 | 02/08/07 | 05/08/07 | CBI | (G) Additive, open, non-dispersive use | (G) Polyether modified polydimethylsiloxane

In Table II of this unit, EPA provides the following information (to the extent that such information is not claimed as CBI) on the TME received:

II. 5 Test Marketing Exemption Notices Received From: 12/18/06 to 02/02/07
Case No. | Received Date | Projected Notice End Date | Manufacturer/Importer | Use | Chemical
T-07-0006 | 01/10/07 | 02/23/07 | Cytec Surface Specialties Inc. | (G) Coating resin | (G) Polester acrylate resin
T-07-0007 | 01/10/07 | 02/23/07 | Cytec Surface Specialties Inc. | (S) Resin for paints and coatings | (G) Substituted carbomonocycles, with substituted glycols and alkyldioic acid
T-07-0008 | 01/10/07 | 02/23/07 | Cytec Surface Specialties Inc. | (S) Ultra violet/eb resin for barrier coatings | (G) Hererocyclic homopolymer substituted ester
T-07-0009 | 01/19/07 | 03/04/07 | Cytec Industries Inc. | (S) Phenolic resin coating | (G) Formaldehyde, polymer with substituted carbomonocycles, alkyl ether
T-07-0010 | 01/22/07 | 03/07/07 | Cytec Industries Inc. | (S) Acrylic resin coating for industrial paints | (G) Alenoic acid alkyl esters, polymer with substituted carbomonocycle, substituted epoxy alkyl ester compound with substituted amine

In Table III of this unit, EPA provides the following information (to the extent that such information is not claimed as CBI) on the Notices of Commencement to manufacture received:

III. 68 Notices of Commencement From: 12/18/06 to 02/02/07
Case No. | Received Date | Commencement Notice End Date | Chemical
P-02-0628 | 01/16/07 | 01/09/07 | (S) 1,2-propanediol, 2-methyl-3-[[(1r,2s,5r)-5-methyl-2-(1-methylethyl) cyclohexyl]oxy]-
P-03-0431 | 01/24/07 | 12/04/06 | (G) Ppdi/polyester prepolymer
P-04-0315 | 12/26/06 | 12/10/06 | (G) Amine functional epoxy curing agent
P-04-0391 | 01/16/07 | 12/18/06 | (G) Alkanediol, polymer with alkanedioic anhydride
P-04-0517 | 01/29/07 | 01/22/07 | (G) Hydroxy-aryl acid, alkyl ester
P-04-0728 | 12/27/06 | 01/03/05 | (S) Butanedioic acid, methylene-, polymer with 2,5-furandione, ammonium salt, hydrogen peroxide-initiated
P-04-0765 | 01/31/07 | 11/02/04 | (G) Polyether diol, copolymer with toluene diisocyante, methacrylic acid ester-blocked
P-04-0904 | 01/16/07 | 09/29/06 | (S) Spiro[5.5.]undec-8-en-1-one, 2,2,7,9-tetramethyl-
P-05-0364 | 01/16/07 | 12/12/06 | (S) 9h-thioxanthenium, 10-[1,1′-biphenyl]-4-yl-2-(1-methylethyl)-9-oxo-, hexafluorophosphate(1-)
P-05-0444 | 01/16/07 | 11/10/06 | (S) 2-propenoic acid, 2-[1-(3,3-dimethylcyclohexyl)ethoxy]-2-methylpropyl ester
P-06-0033 | 01/10/07 | 12/27/06 | (S) Phosphoric acid, tin(2+) salt (2:3)
P-06-0184 | 02/05/07 | 01/30/07 | (G) Styrene-acrylate- methacrylate copolymer.
P-06-0204 | 12/12/06 | 11/14/06 | (G) Fatty acid, alkyl ester
P-06-0389 | 12/13/06 | 11/13/06 | (G) Perfluoroalkylethyl methacrylate copolymer
P-06-0420 | 01/25/07 | 01/18/07 | (S) Butanedioic acic, methylene-, polymer with 2,5-furandione, calcium salt, hydrogen peroxide-initiated
P-06-0436 | 02/05/07 | 01/24/07 | (G) Fatty acids, C18-unsaturated, dimers, hydrogenated, polymers with polypropylene glycol diamine and polyoxyalkylenepolyamine.
P-06-0466 | 12/14/06 | 11/20/06 | (G) 2-propenoic acid, 2-methyl-, methyl ester, polymer
P-06-0468 | 02/07/07 | 01/26/07 | (G) Polyalkylenepolyamine-, polymer with 2,2′-[(methylethylidene)bis(4,1-phenyleneoxymethylene)] bis[oxirane], reaction products with alkyl and aromatic oxiranes
P-06-0470 | 12/26/06 | 12/11/06 | (S) 1-propanaminium, N,N,N-trimethyl-3-[(2-methyl-1-oxo-2-propenyl)amino]-, chloride, polymer with N-(1-methylethyl)-2-propenamide, 2-methyl-2-[(1-oxo-2-propenyl)amino]-1-propanesulfonic acid and 2-propenoic acid, sodium salt
P-06-0533 | 01/08/07 | 09/17/06 | (G) “Ccarbomonocycledicarboxylic acid, polymer with alkenedioic acid, 1,3-dihydro-1,3-dioxo-5-isobenzofurancarboxylic acid, dihydro-3-(tetrapropenyl)-2,5-furandione, .alpha.,.alpha.′-[(1-methylethylidene)dicarbomonocycle] bis[.omega.-hydroxypoly(oxy-1,2-ethanediyl)] and .alpha., .alpha.′-[(1-methylethylidene)dicarbomonocycle]bis[.omega.-hydroxypoly[oxy(methyl-1,2-ethanediyl)]]”
P-06-0554 | 12/26/06 | 12/05/06 | (G) Substituted aminotriazolopyrimidine
P-06-0594 | 12/15/06 | 11/17/06 | (G) Substituted dioxolane
P-06-0595 | 01/16/07 | 12/19/06 | (S) Phosphonium, [2-(1,3-dioxolane-2-yl)ethyl]triphenyl-, bromide-*
P-06-0601 | 02/05/07 | 01/04/07 | (G) Substituted benzenedicarboxylic acid, 5,5′-oxybis, polymer with substituted[benzenamine]
P-06-0617 | 01/16/07 | 12/15/06 | (G) Brominated polyaromatic compound
P-06-0628 | 01/24/07 | 01/19/07 | (G) Alkyl diisocyanate, homopolymer, substituted alkenoic acid and heteromonocyclic homopolymer and substituted polyethylene glycol
P-06-0630 | 01/18/07 | 01/08/07 | (G) Mixed metal oxide complex
P-06-0639 | 12/22/06 | 11/28/06 | (G) Castor oil, dehydrated, polymer with adipic acid, ethylenediamine, 1,6-hexanediol, 3-hydroxy-2-(hydroxymethyl)-2-methylpropanoic acid, 1,1′-methylenebis[4-isocyanatocyclohexane], neopentyl glycol and polyethylene glycol mono[2,2-bis(hydroxyalkyl)alkyl] ether, compound with triethylamine
P-06-0647 | 12/20/06 | 12/09/06 | (G) Sulfonated azo-naphthalene derivative, salt
P-06-0663 | 01/30/07 | 01/12/07 | (G) Aliphatic polyester - polyurethane
P-06-0678 | 12/11/06 | 11/20/06 | (G) Acrylate copolymer
P-06-0679 | 12/26/06 | 12/06/06 | (G) 1,3-benzenedisulfonic acid, 4-[[3-methyl-1-(3-sulfobenzoyl)heteropolycyclel]amino]-, triammonium salt
P-06-0686 | 01/16/07 | 12/19/06 | (S) Fatty acids, C18-unsaturated, dimers, hydrogenated, polymers with ethylenediamine, piperazine, polypropylene glycol diamine and sebacic acid
P-06-0696 | 12/28/06 | 11/28/06 | (G) Polymer of styrene, alkyl methacrylates, and substituted methacrylates
P-06-0698 | 12/15/06 | 11/22/06 | (G) Polymer of acrylic and methacrylic acid derivatives
P-06-0699 | 01/22/07 | 01/03/07 | (G) Aminoalkyl alcohol, N,N-dialkyl derivates
P-06-0700 | 01/12/07 | 12/13/06 | (G) Modified aluminum kelate
P-06-0704 | 01/30/07 | 01/09/07 | (S) 1-butene, polymer with 1-propene, maleated
P-06-0706 | 12/22/06 | 12/17/06 | (S) Tetrahydro-3 (phenylmethyl)-2h-pyran
P-06-0709 | 12/18/06 | 11/28/06 | (G) Maleate mixed esters with straight and branched alkyl alcohols
P-06-0711 | 12/12/06 | 11/21/06 | (G) Homopolymer of lysine
P-06-0712 | 12/12/06 | 11/22/06 | (G) Alkyd phthalic polyester
P-06-0714 | 12/27/06 | 11/24/06 | (G) Polymer-stabilized titania
P-06-0715 | 12/27/06 | 11/27/06 | (G) Vinyl surface treated carbon black
P-06-0716 | 12/27/06 | 12/12/06 | (G) Vinylsilane surface treated titania
P-06-0717 | 12/27/06 | 11/27/06 | (G) Polymer-stabilized copper chromite
P-06-0718 | 12/27/06 | 11/27/06 | (G) Polymer-stabilized carbon black
P-06-0719 | 12/27/06 | 11/23/06 | (G) Vinylsilane surface treated copper chromite
P-06-0734 | 12/11/06 | 11/27/06 | (G) Substituted phenol alkenylester
P-06-0738 | 12/14/06 | 12/06/06 | (G) Ethanediol tetramethylxylylene diisocyanate polymer
P-06-0741 | 01/30/07 | 01/05/07 | (G) Polyurethane acrylate
P-06-0744 | 12/14/06 | 11/26/06 | (G) 2-oxepanone, polymer with azirizine and tetrahydro-2h-pyran-2-one, alkanoate, compound with phenyloxirane polymer with oxirane mono(dihydrogen phosphate) alkyl ether
P-06-0748 | 12/12/06 | 11/29/06 | (G) Polyetheramine
P-06-0751 | 01/30/07 | 01/25/07 | (G) Urethane resin
P-06-0757 | 02/02/07 | 01/25/07 | (G) Spiro[isobenzofuran-1(3h), polyheterocycle]-3-one, 3′-chloro-6′-(2,3-dihydro-3,3,5-trimethyl-1h-indol-1-yl)-4,5,6,7-tetrafluoro-*
P-06-0758 | 01/30/07 | 01/08/07 | (G) Polyheterocycle, 2,3-dihydro-3,3,5-trimethyl-, hydrochloride
P-06-0759 | 01/30/07 | 01/02/07 | (G) Acetamide, N-(4-methylphenyl)-N-(alkenyl)-
P-06-0760 | 01/30/07 | 01/04/07 | (G) Heteropolycycle, 1-acetyl-2,3-dihydro-3,3,5-trimethyl-
P-06-0761 | 02/02/07 | 02/01/07 | (G) Spiro[isobenzofuran-1(3h), polyheterocycle]-3-one, 3′-(2,3-dihydro-3,3,5-trimethyl-1h-indol-1-yl)-6′-[(2,4-dimethylphenyl)amino]-4,5,6,7-tetrafluoro-
P-06-0762 | 02/02/07 | 01/19/07 | (G) Polyheterocycle, 2,3-dihydro-3,3,5-trimethyl-
P-06-0785 | 12/27/06 | 12/05/06 | (S) Molybdenum bis(di-C11-14 branched and linear carbamodithioato) di-u-oxodioxo-di-,sulfurized
P-06-0789 | 12/28/06 | 12/22/06 | (S) 2h-indeno[4,5-b] furan, decahydro-2,2,6,6,7,8,8-heptamethyl Indeno[4,3a-b] furan, decahydro-2,2,7,7,8,9,9,-heptamethyl
P-06-0813 | 01/31/07 | 01/22/07 | (G) Poly (oxyalkanediyl) ,.alpha.,.alpha,′-carbomonocycledicarbonyl bis (.omega.-alkyloxy-)
P-06-0814 | 01/31/07 | 01/22/07 | (G) Poly (oxyalkanediyl), .alpha.,.alpha,′.alpha.′′-carbomonocycletricarbonyl tris (.omega.-alkyloxy-)
P-07-0022 | 01/30/07 | 01/11/07 | (G) Aqueous polyurethane dispersion
P-07-0035 | 01/31/07 | 01/22/07 | (G) Methacrylate copolymer
P-07-0036 | 01/31/07 | 01/22/07 | (G) Methacrylate copolymer
P-99-0026 | 01/23/07 | 01/15/07 | (S) Cerium, hydroxy oleate propionate complexes

List of Subjects

Environmental protection, Chemicals, Premanufacturer notices.

Dated: March 1, 2007.
Geraldine Hilton,
Acting Director, Information Management Division, Office of Pollution Prevention and Toxics.

[FR Doc. E7-4171 Filed 3-8-07; 8:45 am]

BILLING CODE 6560-50-S